DEPARTMENT OF TRANSPORTATION

Federal Railroad Administration

[Docket Number FRA-2017-0058]

Petition for Waiver of Compliance

Under part 211 of Title 49 of the Code of Federal Regulations (CFR), this provides the public notice that on June 22, 2017, the National Railroad Passenger Corporation (Amtrak) petitioned the Federal Railroad Administration (FRA) for a waiver from compliance with certain provisions of the Federal railroad safety regulations in Title 49 Code of Federal Regulations Part 238, Passenger Equipment Safety Standards. FRA assigned the petition docket number FRA-2017-0058.

Amtrak awarded a contract to car builder Construcciones y Auxiliar de Ferrocarriles (CAF) on August 23, 2010 for a fleet of 130 Long Distance Single Level (LDSL) passenger cars, composed of four car types. The contract presently calls for delivery of 70 baggage cars (61000 series) and 10 baggage-crew dormitory cars (69000 series) for Amtrak crew use, 25 dining cars (68000 series), and 25 sleeping cars (62500 series).

Amtrak requests relief for the LDSL passenger cars from the requirements of 49 CFR 238.131(b), Safety System for Manual and Powered Side Doors—Propulsion Interlock, for passenger cars beginning service after February 5, 2018. Amtrak states that some car deliveries for this procurement will fall after February 5, 2018, which is the effective date for this new regulation. It is projected that the 25 sleeping cars and 10 baggage-dormitory cars will be delivered after February 5, 2018. A copy of the petition, as well as any written communications concerning the petition, is available for review online at www.regulations.gov and in person at the Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 28, 2017 will be considered by FRA before final action is taken. Comments received after that date will be considered if as practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-14809 Filed 7-13-17; 8:45 am]

BILLING CODE 4910-06-P